DEPARTMENT OF DEFENSE

Department of the Army

Availability for Non-Exclusive, Exclusive, or Partially Exclusive Licensing of U.S. Patent Concerning Methods for Production of Antigens Under Control of Temperature-Regulated Promoters in Enteric Bacteria

AGENCY: U.S. Army Medical Research and Materiel Command, DoD.

ACTION: Notice.

SUMMARY: In accordance with 37 CFR 404.6, announcement is made of the availability for licensing of U.S. Patent Serial No. 5,698,416 entitled “Methods for Production of Antigens Under Control of Temperature-Regulated Promoters in Enteric Bacteria” issued December 16, 1997. This patent application has been assigned to the United States Government as represented by the Secretary of the Army.

ADDRESSES: Commander, U.S. Army Medical Research and Materiel Command, ATTN: Command Judge Advocate, MCMR-JA, 504 Scott Street, Fort Detrick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: Production of proteins in bacteria containing DNA sequences encoding proteins under the control of a temperature-regulated promoter is improved by growing the organisms at temperatures of less than 35 °C until the late logarithmic phase. Thereafter the temperature may be raised to 36 °C to 39 °C. Antigens produced by the method of invention may be used as vaccines, as means for measuring efficacy of vaccines, as probes to detect antigens from clinical samples and for biochemical characterizations of antigens.

Luz D. Ortiz,
Army Federal Register Liaison Officer.

[FR Doc. 01-15734 Filed 6-21-01; 8:45 am]

BILLING CODE 3710-08-M